GOVERNMENT PRINTING OFFICE

Depository Library Council to the Public Printer; Meeting

The Depository Library Council to the Public Printer (DLC) will meet on Sunday, October 22, 2000, through Wednesday, October 25, 2000, in Arlington, Virginia. The sessions will take place from 7:30 p.m. until 10 p.m. on Sunday, 8:30 a.m. until 5 p.m. on Monday and Tuesday and from 8:30 a.m. until 3:30 p.m. on Wednesday. The meeting will be held at the Holiday Inn Rosslyn (Westpark) at Key Bridge, 1900 North Fort Myer Drive, Arlington, Virginia. The purpose of this meeting is to discuss the Federal Depository Library Program. All sessions are open to the public.

Sleeping rooms at our host hotel are completely booked. If you need accommodations, contact the Virginian Suites, 1500 Arlington Boulevard, Arlington, Virginia 22209. Telephone 800-275-2866 or the hotel directly at 703-522-9600. Please ask for the Government rate and tell them you are with the Government Printing Office group. Room cost per night is $119, plus tax.

Michael F. DiMario,
Public Printer.

[FR Doc. 00-25140 Filed 9-29-00; 8:45 am]

BILLING CODE 1520-01-P